DEPARTMENT OF ENERGY

Federal Energy Regulatory Commission

[Docket No. AD08-12-000]

State of the Natural Gas Infrastructure Conference; Supplemental Notice of Commission Conference

November 14, 2008.

On October 7, 2008, the Federal Energy Regulatory Commission (Commission) issued a notice announcing a conference in this proceeding, to be held on November 21, 2008. As mentioned in that notice, the focus of the conference is on natural gas demand and supply issues as they relate to the development of the domestic natural gas industry and the effect upon infrastructure. The Commission has invited industry representatives to provide perspectives and comments. The agenda for the conference is attached.

As noted in the October 7 Notice, the conference will be held at the Federal Energy Regulatory Commission, 888 First Street, NE., Washington, DC 20426 in the Commission Meeting Room (2-C) from 9:30 a.m. until 12:30 p.m. (Eastern Standard Time). All interested parties are invited, and there is no registration required.

This conference will be transcribed. Transcripts of the conference will be immediately available from Ace Reporting Company (202-347-3700 or 1-800-336-6646) for a fee. A free Webcast of this event is available through http://www.ferc.gov. Anyone with Internet access who desires to view this event can do so by navigating to the Calendar of Events at http://www.ferc.gov and locating this event in the Calendar. The event will contain a link to its Webcast. The Capitol Connection provides technical support for the free Webcasts. It also offers access to this event via television in the Washington, DC area and via phone-bridge for a fee. If you have any questions, visit http://www.CapitolConnection.org and click on “FERC” or call (703) 993-3100.

Commission conferences are accessible under section 508 of the Rehabilitation Act of 1973. For accessibility accommodations please send an e-mail to accessibility@ferc.gov or call toll free 866-208-3372 (voice) or 202-208-1659 (TTY), or send a FAX to 202-208-2106 with the required accommodations.

Questions about the conference should be directed to Raymond James by phone at 202-502-8588 or by e-mail at raymond.james@ferc.gov.

Kimberly D. Bose,
Secretary.

[FR Doc. E8-27570 Filed 11-19-08; 8:45 am]

BILLING CODE 6717-01-P